ENVIRONMENTAL PROTECTION AGENCY

40 CFR Part 300

[EPA-HQ-SFUND-2005-0011; FRL-9967-25-Region 5]

National Oil and Hazardous Substance Pollution Contingency Plan; National Priorities List: Deletion of the Nutting Truck & Caster Co. Superfund Site

AGENCY: Environmental Protection Agency (EPA).

ACTION: Direct final rule.

SUMMARY: The Environmental Protection Agency (EPA) Region 5 is publishing a direct final Notice of Deletion of the Nutting Truck & Caster Co. Superfund Site (Site), located in Faribault, Rice County, Minnesota from the National Priorities List (NPL). The NPL, promulgated pursuant to Section 105 of the Comprehensive Environmental Response, Compensation, and Liability Act (CERCLA) of 1980, as amended, is an appendix of the National Oil and Hazardous Substances Pollution Contingency Plan (NCP). This direct final deletion is being published by EPA with the concurrence of the State of Minnesota, through the Minnesota Pollution Control Agency (MPCA), because EPA has determined that all appropriate response actions under CERCLA have been completed. However, this deletion does not preclude future actions under Superfund.

DATES: This direct final deletion is effective November 24, 2017 unless EPA receives adverse comments by October 25, 2017. If adverse comments are received, EPA will publish a timely withdrawal of the direct final deletion in the Federal Register informing the public that the deletion will not take effect.

ADDRESSES: Submit your comments, identified by Docket ID No. EPA-HQ-SFUND-2005-0011 at https://www.regulations.gov. Follow the online instructions for submitting comments. Comments may also be submitted by email or mail to Randolph Cano, NPL Deletion Coordinator, U.S. Environmental Protection Agency Region 5 (SR-6J), 77 West Jackson Boulevard, Chicago, IL 60604, (312) 886-6036, email address: cano.randolph@epa.gov or hand deliver: Superfund Records Center, U.S. Environmental Protection Agency Region 5, 77 West Jackson Boulevard, 7th Floor South, Chicago, IL 60604, (312) 886-0900. Such deliveries are only accepted during the Docket's normal hours of operation, and special arrangements should be made for deliveries of boxed information. The normal business hours are Monday through Friday, 8 a.m. to 4 p.m., excluding Federal holidays. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets. Publicly available docket materials are available either electronically through https://www.regulations.gov or in hard copy at the site information repositories.

Locations, contacts, phone numbers and viewing hours are:

U.S. Environmental Protection Agency—Region 5, Superfund Records Center, 77 West Jackson Boulevard, 7th Floor South, Chicago, IL 60604, Phone: (312) 886-0900, Hours: Monday through Friday, 8 a.m. to 4 p.m., excluding Federal holidays.

Buckham Memorial Library, 11 Division Street E, Faribault, MN 55021, Phone: (507) 334-2089, Hours: Monday and Wednesday, 9 a.m. to 6 p.m., Tuesday and Thursday 9 a.m. to 8 p.m., Friday and Saturday 9 a.m. to 5 p.m.

FOR FURTHER INFORMATION CONTACT: Randolph Cano, NPL Deletion Coordinator, U.S. Environmental Protection Agency Region 5 (SR-6J), 77 West Jackson Boulevard, Chicago, IL 60604, (312) 886-6036, or via email at cano.randolph@epa.gov.

SUPPLEMENTARY INFORMATION:

Table of Contents

I. Introduction

II. NPL Deletion Criteria

III. Deletion Procedures

IV. Basis for Site Deletion

V. Deletion Action

I. Introduction

EPA Region 5 is publishing this direct final Notice of Deletion of the Nutting Truck & Caster Co. Site (Site) from the NPL and requests public comment on this action. The NPL constitutes Appendix B of 40 CFR part 300, which is the National Oil and Hazardous Substances Pollution Contingency Plan (NCP), which EPA promulgated pursuant to Section 105 of CERCLA, as amended. EPA maintains the NPL as the list of sites that appear to present a significant risk to public health, welfare, or the environment. Sites on the NPL may be the subject of remedial actions financed by the Hazardous Substance Superfund (Fund). As described in § 300.425(e)(3) of the NCP, sites deleted from the NPL remain eligible for Fund-financed remedial actions if future conditions warrant such actions.

Because EPA considers this action to be noncontroversial and routine, this action is effective November 24, 2017, unless EPA receives adverse comments by October 25, 2017.

Section II of this document explains the criteria for deleting sites from the NPL. Section III discusses procedures that EPA is using for this action. Section IV discusses the Nutting Truck & Caster Co. Site and demonstrates how it meets the deletion criteria. Section V discusses EPA's action to delete the site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State of Minnesota prior to developing this direct final Notice of Deletion and the Notice of Intent to Delete co-published today in the “Proposed Rules” section of the Federal Register.

(2) EPA has provided the State thirty (30) working days for review of this action and the parallel Notice of Intent to Delete prior to their publication today, and the State, through the MPCA, has concurred on the deletion of the Site from the NPL.

(3) Concurrent with the publication of this direct final Notice of Deletion, a notice of the availability of the parallel Notice of Intent to Delete is being published in a major local newspaper, the “Faribault Daily News”. The newspaper document announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL.

Site Background and History

The Nutting Truck & Caster Co. Superfund Site (CERCLIS ID: MND006154017) is located at 85 Prairie Avenue (formerly reported as 1201 or 1221 W. Division Street) in Faribault, Minnesota. The Site covers approximately 8.6 acres of the former 11 acre Nutting Truck & Caster Co. (Nutting) property that was used for manufacturing and waste disposal activities. The Site is bound on the west by Prairie Avenue and the southeast by railroad tracks. The majority of the north Site boundary is approximately 250 feet south of Division Street. The Site is accessed via Prairie Avenue. The property is currently owned by Prairie Avenue Leasing, Ltd., and is utilized for commercial and light industrial uses. The property includes an industrial/commercial building with loading docks. Most of the remainder of the property is paved. A cell tower is located on the property.

Single-family homes and an Islamic Center are located to the west and north of the Site. The residences and other water-users on and near the Site are connected to the municipal water supply. Nutting manufactured casters, wheels and hand trucks at the Site from 1891 to 1984. Prior to 1979, Nutting disposed wastes in an unlined seepage pit in a former gravel pit on the Site. The wastes were primarily solvents and sludges containing cadmium, lead, cyanide, methylene chloride, trichloroethylene (TCE) and xylene.

The MPCA issued a Notice of Noncompliance to Nutting for their past TCE disposal practice at the Site in 1979. Nutting excavated the sludge and contaminated soil from the former seepage pit under MPCA oversight in 1980. Nutting land spread the excavated material on Rice County property adjacent to the Rice County Landfill in accordance with MPCA Permit MNL051748. Nutting backfilled the pit with clean fill and paved the area over with concrete. MPCA determined that the source materials were effectively removed, but that groundwater contamination remained at the Site above drinking water standards.

EPA proposed the Site to the NPL on September 8, 1983 (48 FR 40658) and finalized the Site on the NPL on September 21, 1984 (49 FR 37055). MPCA added Nutting to its State Superfund Priority List, known as the Permanent List of Priorities (PLP), in 1984. MPCA took the lead in addressing the Site through its State environmental response authority under the Minnesota Environmental Response and Liability Act (MERLA) of 1983.

MPCA issued a Request for Response Action (RFRA) to Nutting in September 1983 and a Response Order by Consent to Nutting in April 1984 (1984 Order). The 1984 Order required Nutting to conduct a remedial investigation (RI) and to make recommendations concerning further response actions that may be necessary at the Site. EPA was not a party to the 1984 Order because the Site was a State enforcement lead site.

Remedial Investigation and Feasibility Study (RI/FS)

Nutting completed the RI and recommended response actions for groundwater in 1986. MPCA issued a second Response Order by Consent to Nutting on September 22, 1987 (1987 Order). EPA was not a party to the 1987 Order. The 1987 Order required Nutting to develop and implement a Response Action Plan (RAP) for groundwater remediation. MPCA required this action based on the possibility that the groundwater contamination immediately downgradient of the Nutting Site could pose a potential future threat to the Faribault well field. Nutting submitted a RAP to MPCA in response to the 1987 Order. MPCA approved the RAP and Nutting implemented the RAP in 1987. The RAP called for the extraction and treatment of contaminated groundwater and continued groundwater monitoring.

Selected Remedy

Soil: MPCA's selected remedy for soil was the soil excavation Nutting conducted pursuant to MPCA's 1979 Notice of Noncompliance. Nutting excavated the contaminated soil and material from the seepage pit located in the west central area of the property. Nutting disposed of these materials, which were the Site's major source of TCE contamination, off-site. This removal action achieved MPCA's residential soil clean-up goals. Nutting backfilled the excavated pit with clean fill and paved the area with concrete. The area is currently used as a loading dock and parking area. The soil removal action objectives for the Site are: (1) To eliminate the possibility of precipitation facilitating the migration of contaminants through the soil; and (2) to eliminate access to the former seepage pit area by potential receptors.

Groundwater: The remedial action objectives (RAOs) for Site groundwater are documented in the 1987 RAP. The groundwater RAOs are to prevent the migration of contaminated groundwater away from the Site and to ensure the protection of downgradient aquifers for future use as a potable water supply. Nutting installed a groundwater pump-and-treat (P&T) system at the Site to prevent the contaminated groundwater from migrating away from the Site in 1987. Nutting also installed a system of downgradient compliance wells to assess the effectiveness of the groundwater remedy.

MPCA set the cleanup level for groundwater in the RAP at 50 parts per billion (ppb) for TCE in the upper aquifer units. MPCA's objective was to ensure that the downgradient drinking water aquifers would be protected. TCE levels in groundwater could not exceed 50 parts per billion (ppb) in the compliance wells. The compliance wells were the wells that were the closest to the Site, 350-400 feet downgradient of the Nutting property boundary. Several of the sentinel wells located on private properties were subsequently sealed due to requests from property owners.

The Minnesota Department of Health (MDH) recommended that the Minnesota Health Risk Limit (HRL) for TCE be changed from 30 ppb to 5 ppb in 2002. This lower value coincides with EPA's Maximum Contaminant Level (MCL) for TCE under the Safe Drinking Water Act. MPCA prepared an amended RAP to modify the groundwater clean-up goals for the Site from 50 ppb of TCE to the present MCL/HRL action level of 5 ppb in 2003.

Response Actions

Nutting constructed and began operating the groundwater extraction system at the Site in 1987. The extraction system consisted of two wells. One extraction well was installed in the shallower, glacial outwash unit of the upper aquifer and one extraction well was installed in the deeper, St. Peter Sandstone unit of the upper aquifer. The St. Peter Sandstone unit of the upper aquifer is above the lower, Prairie du Chien aquifer, which is the source of drinking water. Groundwater flow in both aquifers is to the north. Both extraction wells were located just north of the Site on Division Street West. Nutting treated the extracted groundwater on-Site using a gravity cascade to remove the TCE and other volatile organic compounds. Nutting discharged the treated groundwater to a municipal storm water sewer.

Cleanup Levels

MPCA lowered the cleanup level for TCE to 5 ppb in an amended RAP in 2003. Groundwater sampling demonstrated that the extraction system achieved the 5 ppb cleanup standard for TCE in the off-site compliance wells in 2004. Nutting shut down the extraction wells in 2004 with the approval of the MPCA.

Nutting prepared a Long-term Monitoring Plan in June 2004 that contained a two-tier monitoring plan for removing the groundwater treatment system. This document also contained criteria and contingency plans for restarting the groundwater treatment system.

Nutting continued to monitor the groundwater until 2007. In 2007, MPCA determined that the cleanup standard for groundwater was met and maintained at the compliance wells and that no additional groundwater monitoring was required. Nutting sealed all extraction and monitoring wells with MPCA approval in 2008. MPCA terminated the 1987 Order and deleted the Site from its PLP in 2009.

EPA reviewed the Site in 2010. EPA determined that no further action was necessary to protect public health or welfare or the environment at the Site. EPA issued a Record of Decision (ROD) in 2010 stating that all appropriate MERLA response actions, which parallel CERCLA response actions, were completed at the Site, and that long-term monitoring indicates that the soil and the groundwater at the Site do not pose a threat to public health or welfare or the environment. EPA's ROD determined that because the actions taken at the Site removed the potential for risks to human health and the environment, these actions meet EPA clean-up standards, and no further action is required. EPA's ROD also determined that Site conditions allow for unlimited use and unrestricted exposure.

EPA reviewed the historical groundwater data from the Site in 2013 when preparing to delete the Site from the NPL. During this review, EPA determined that the drinking water standard for TCE was, in fact, not being met throughout the plume. This standard would have to be achieved throughout the plume before the Site could be deleted from the NPL. EPA raised this issue with MPCA.

MPCA contracted the Antea Group (Antea) to re-install two groundwater monitoring wells at the Site to address this issue. Antea re-installed nested groundwater monitoring well B4R in the glacial outwash/St. Peter Sandstone upper aquifer and W13R in the Prairie du Chien lower aquifer in 2014 to confirm that the MCL was attained in the on-Site plume. Antea sampled the groundwater during 15 sampling events from August 2014 to November 2016. Antea sampled lower aquifer well W13R during all 15 sampling events and upper aquifer well B4R during the first 11 events under EPA direction.

The analytical results from all 11 sampling events from B4R showed TCE concentrations below the cleanup level of 5 ppb. The analytical results from the first seven W13R sampling events showed TCE levels below 10 ppb, with the final eight sampling events under the cleanup level of 5 ppb. Because the last eight consecutive groundwater sampling events at the Site show that the TCE cleanup level of 5 ppb is being met throughout the plume, EPA's requirements for Site closeout are achieved. No additional groundwater monitoring is required.

MPCA tasked Antea to conduct additional sampling to assess whether there was any potential risk from soil vapor intrusion in 2015. Antea advanced five soil gas probes to depths of six to eight feet below ground surface around the northwest corner of the Site downgradient of the former disposal pit. The analytical results were below the screening values for all constituents on the Minnesota Soil Gas List and total hydrocarbons. These results indicate that the risk for vapor intrusion is minimal and that additional vapor intrusion actions are not necessary.

Operation and Maintenance

This Site does not require any operation and maintenance (O&M) activities. Site soil and groundwater meet all cleanup objectives and no further remedial action or O&M is required. The MPCA will permanently abandon the re-installed monitoring wells, which are no longer needed for the collection of groundwater data.

Nutting executed an Environmental Covenant and Easement at the Site on October 28, 2008. The MPCA required this institutional control as part of the State delisting requirement from the State PLP. The covenant provides additional and enforceable protection of public health and the environment, as it provides that: (1) No wells can be installed on the property without the approval of the MPCA; (2) all monitoring and extraction wells have been properly abandoned as a condition of the Environmental Covenant; (3) the property owner is required to report to the MPCA on an annual basis that conditions at the Site remain consistent with land use prescribed in the zoning requirements; and (4) any proposed changes in land use require that MPCA be notified to determine if the changes will adversely affect the protectiveness of the completed remedy. It should be noted that this covenant is not required by EPA.

Five Year Reviews

MPCA conducted five-year reviews (FYRs) of the Site in 1994, 1998, 2003 and 2008. MPCA conducted the last FYR of the Site in 2008. MPCA's 2008 FYR concluded that the remedial actions at the Site were protective of human health and the environment in the short-term, and that long-term protectiveness would be achieved when the groundwater cleanup standards were attained and the State-required institutional controls were in place. The Site-wide remedy protects human health and the environment because exposure pathways that could result in unacceptable risks have been controlled through the completed remedial activities.

MPCA deleted the Site from the State PLP in 2009. EPA's 2010 ROD determined that all appropriate MERLA response actions, which parallel CERCLA response actions, have been completed. Long-term monitoring indicates that the soil and groundwater at the Site do not pose a threat to public health or welfare or the environment. EPA's 2010 ROD does not require subsequent FYRs since Site conditions allow for unlimited use and unrestricted exposure. EPA, MPCA, Antea and the Site property owner conducted a final inspection at the Site on November 15, 2016. EPA completed a Final Close Out Report for the Site on April 11, 2017.

Community Involvement

EPA and MPCA satisfied public participation activities as required in CERCLA Section 113(k), 42 U.S.C. 9613(k), and CERCLA Section 117, 42 U.S.C. 9617. MPCA published notifications announcing the FYR and inviting the public to comment and express their concerns about the Site in the Faribault Daily News at the start of the 1994, 1998, 2003 and 2008 FYRs. EPA published a document about its proposed no further action plan for the Site, the 30-day public comment period, and the availability of a public meeting, if requested, in the Faribault Daily News in 2010. EPA mailed a proposed plan fact sheet with information about the Site and announcing a 30-day public comment period to the addresses on the Site mailing list prior to issuing its final decision in the 2010 ROD. EPA did not receive any comments during the public comment period or any requests for a public meeting.

EPA published a document announcing this proposed Direct Final Deletion in the Faribault Daily News prior to publishing this deletion in the Federal Register. Documents in the deletion docket which EPA relied on for recommending the deletion of this Site from the NPL are available to the public in the information repositories and at https://www.regulations.gov.

Determination That the Site Meets the Criteria for Deletion in the NCP

This Site meets all of the site completion requirements as specified in Office of Solid Waste and Emergency Response (OSWER) Directive 9320.2-22, Close Out Procedures for National Priorities List Sites. All cleanup actions specified in the RAP have been implemented, and the Site has achieved the RAP cleanup objectives or has been cleaned up to acceptable risk levels for all media and exposure pathways as noted in the 2010 EPA ROD. The RAOs and associated clean-up goals are consistent with Agency policy and guidance. Confirmation groundwater sampling and soil vapor results provide further assurance that the Site no longer poses a threat to human health or the environment. Therefore, the EPA has determined that no further Superfund response is necessary at the Site to protect human health and the environment.

The NCP (40 CFR 300.425(e)) states that a site may be deleted from the NPL when no further response action is appropriate. EPA, in consultation with the State of Minnesota, has determined that all required response actions have been implemented and no further response action by the responsible parties is appropriate.

V. Deletion Action

EPA, with concurrence from the State of Minnesota through the MPCA, has determined that all appropriate response actions under CERCLA have been completed. Therefore, EPA is deleting the Site from the NPL.

Because EPA considers this action to be noncontroversial and routine, EPA is taking it without prior publication. This direct final deletion is effective November 24, 2017 unless EPA receives adverse comments by October 25, 2017. If adverse comments are received within the 30-day public comment period, EPA will publish a timely withdrawal of this direct final Notice of Deletion before the effective date of the deletion, and it will not take effect. EPA will prepare a response to comments and continue with the deletion process on the basis of the Notice of Intent to Delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, and Water supply.

Dated: August 21, 2017.
Robert A. Kaplan,
Acting Regional Administrator, Region 5.

For the reasons stated in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300 [Amended]

2. Table 1 of Appendix B to part 300 is amended by removing the entry “MN”, “Nutting Truck & Caster Co”, “Faribault”.

[FR Doc. 2017-20348 Filed 9-22-17; 8:45 am]

BILLING CODE 6560-50-P